DEPARTMENT OF ENERGY

Federal Energy Regulatory Commission

[Project No. 199-205]

South Carolina Public Service Authority; Notice of Workshop for Santee Cooper Hydroelectric Project

On May 26 and November 8, 2011, Commission staff met with representatives of the National Marine Fisheries Service (NMFS) and the South Carolina Public Service Authority (SCPSA), licensee for the Santee-Cooper Hydroelectric Project No. 199, to discuss what is needed to complete formal consultation for shortnose sturgeon (Acipenser brevirostrum) under section 7 of the Endangered Species Act (ESA). At the November 8, 2011 meeting, the parties agreed that additional dialogue was necessary to understand the project, its operations, and the technical feasibility of implementing measures at the project's two developments. Accordingly, Commission staff will meet with representatives of NMFS and SCPSA on Wednesday and Thursday, January 11 and 12, 2012, respectively. The focus of each day is as follows:

a. January 11 will be devoted to touring and discussing ESA issues at Wilson Dam, and for the Santee River and the Re-Diversion Canal; and

b. January 12 will be devoted to touring and discussing issues at Pinopolis (Jefferies Station) and the U.S. Army Corps of Engineers' (Corps) St. Stephen Project.

Each day will begin at 9 a.m. at SCPSA's headquarters, located at 1 Riverwood Drive, Moncks Corner, South Carolina. Participation at the workshop will be limited to Commission staff, NMFS, SCPSA, and the Corps; all local, state, and federal agencies, and interested parties, are invited to attend. Questions concerning the workshop should be directed to John Inabinet of SCPSA at (843) 761-4069. The workshop is posted on the Commission's calendar located at http://www.ferc.gov/EventCalendar/EventsList.aspx, along with other related information.

For further information, contact Allan Creamer at (202) 502-8365, or by email at allan.creamer@ferc.gov.

Dated: December 21, 2011.
Kimberly D. Bose,
Secretary.

[FR Doc. 2011-33307 Filed 12-28-11; 8:45 am]

BILLING CODE 6717-01-P